DEPARTMENT OF COMMERCE

International Trade Administration

[A-580-859]

Light-Walled Rectangular Pipe and Tube From the Republic of Korea: Rescission of Antidumping Duty Administrative Review; 2022-2023

AGENCY: Enforcement and Compliance, International Trade Administration, Department of Commerce.

SUMMARY: The U.S. Department of Commerce (Commerce) is rescinding the administrative review of the antidumping duty (AD) order on light-walled rectangular pipe and tube (LWRPT) from the Republic of Korea (Korea) for the period of review (POR) August 1, 2022, through July 31, 2023.

DATES: Applicable January 23, 2024.

FOR FURTHER INFORMATION CONTACT: Carolyn Adie, AD/CVD Operations, Office VI, Enforcement and Compliance, International Trade Administration, U.S. Department of Commerce, 1401 Constitution Avenue NW, Washington, DC 20230; telephone: (202) 482-6250.

SUPPLEMENTARY INFORMATION:

Background

On August 5, 2008, Commerce published in the Federal Register an AD order on LWRPT from Korea.¹ On August 2, 2023, we published in the Federal Register a notice of opportunity to request an administrative review of the Order.² On October 18, 2023, based on a timely request for an administrative review, Commerce initiated this administrative review with respect to one company, Hoa Phat Steel Pipe Company Limited (Hoa Phat).³

¹ See Light-Walled Rectangular Pipe and Tube from Mexico, the People's Republic of China, and the Republic of Korea: Antidumping Duty Orders; Light-Walled Rectangular Pipe and Tube from the Republic of Korea: Notice of Amended Final Determination of Sales at Less than Fair Value, 73 FR 45403 (August 5, 2008) (LWRPT from Korea Order, or Order).

² See Antidumping or Countervailing Duty Order, Finding, or Suspended Investigation; Opportunity To Request Administrative Review and Join Annual Inquiry Service List, 88 FR 50840 (August 2, 2023).

³ See Initiation of Antidumping and Countervailing Duty Administrative Reviews, 88 FR 71829, 71831 (October 18, 2023).

On November 15, 2023, Hoa Phat submitted a letter notifying Commerce that it had no exports, sales, or entries during the POR, and requesting that Commerce rescind this administrative review.⁴ On November 30, 2023, we placed on the record the results of a data query from U.S. Customs and Border Protection (CBP) indicating no suspended entries during the POR attributed to Hoa Phat.⁵ No interested party submitted comments to Commerce.

⁴ See Hoa Phat's Letter, “No Shipment Letter,” dated November 15, 2023 (Hoa Phat's No Shipment Letter).

⁵ See Memorandum, “Placement on the Record of Results of Inquiry to U.S. Customs and Border Protection,” dated November 30, 2023.

On December 11, 2023, Commerce notified all interested parties of its intent to rescind the review in full because there were no suspended entries by the company subject to this review during the POR and invited interested parties to comment on Commerce's intent to rescind.⁶ No interested parties commented on the Intend to Rescind Memorandum.

⁶ See Memorandum, “Intent to Rescind Review,” dated December 11, 2023.

Interested-Party Comment

In Hoa Phat's No Shipment Letter, Hoa Phat argues that none of the entries of LWRPT manufactured by Hoa Phat are included in the scope of this administrative review because all of the hot-rolled steel (HRS) used to produce the LWRPT that Hoa Phat exported to the United States that entered U.S. customs territory on or after August 4, 2022 was produced in Vietnam, not Korea.⁷ Hoa Phat contends that it requested an administrative review here so that Commerce could determine whether any of Hoa Phat's exports were, in fact, subject to the Order.⁸ Hoa Phat argues that Commerce should find that none of the exports by Hoa Phat during this period of review were produced with HRS from the People's Republic of China (China), Korea, or Taiwan.⁹ Hoa Phat additionally argues that Commerce should find that Hoa Phat and its customers are entitled to certify the origin of the HRS in the LWRPT exported to the United States by Hoa Phat.¹⁰

⁷ See Hoa Phat's No Shipment Letter at 2.

⁸ Id. at 1-2.

⁹ Id. at 3.

¹⁰ Id.

In LWRPT Circumvention Final, we stated that, “{b}ecause entries of LWRPT produced or exported by Hoa Phat currently must be entered as subject to the cash deposit rates established under the LWRPT China Orders pursuant to Commerce's {preliminary determination}, Hoa Phat, or any other interested party with standing to request a review of Hoa Phat's entries may request an administrative review of its entries under the LWRPT China Orders.” ¹¹ Thus, the proper venue for Commerce to reconsider Hoa Phat's certification eligibility is in the context of administrative reviews of the LWRPT China Orders. In fact, Commerce initiated an administrative review of Hoa Phat in each of the LWRPT China Orders.¹²

¹¹ See Light-Walled Rectangular Pipe and Tube from the Republic of Korea: Final Affirmative Determination of Circumvention of the Antidumping Duty Order, 88 FR 77266 (November 9, 2023) (LWRPT Circumvention Final), and accompanying IDM at Comment 5 (citing Light-Walled Rectangular Pipe and Tube from Mexico, the People's Republic of China, and the Republic of Korea: Antidumping Duty Orders; Light-Walled Rectangular Pipe and Tube from the Republic of Korea: Notice of Amended Final Determination of Sales at Less than Fair Value, 73 FR 45403 (August 5, 2008); and Light-Walled Rectangular Pipe and Tube from the People's Republic of China: Notice of Countervailing Duty Order, 73 FR 45405 (August 5, 2008) (collectively, LWRPT China Orders)).

¹² See Initiation of Antidumping and Countervailing Duty Administrative Reviews, 88 FR 71829, 71835, 71837 (October 18, 2023).

Accordingly, we are rescinding this review because there are no suspended entries during the POR for the company for which this review has been initiated. Further, pursuant to the LWRPT Circumvention Final, no entry of LWRPT produced by Hoa Phat in Vietnam would be entered subject to the LWRPT from Korea Order without the completion of administrative reviews under the LWRPT China Orders. Hoa Phat's eligibility to certify will be determined in the context of the LWRPT China Orders administrative reviews.

Rescission of Review

Pursuant to 19 CFR 351.213(d)(3), it is Commerce's practice to rescind an administrative review of an AD order when there are no suspended entries during the POR for the companies for which the review was initiated.¹³ Normally, upon completion of an administrative review, the suspended entries are liquidated at the AD assessment rate calculated for the POR.¹⁴ Therefore, for an administrative review to be conducted, there must be at least one suspended entry for which Commerce can instruct CBP to liquidate at the AD assessment rate calculated for the POR.¹⁵ As noted above, there were no suspended entries for the company subject to this review during the POR. Accordingly, in the absence of suspended entries during the POR, we are hereby rescinding this administrative review, in its entirety, in accordance with 19 CFR 351.213(d)(3).

¹³ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4157 (January 24, 2023).

¹⁴ See 19 CFR 351.212(b)(1).

¹⁵ See 19 CFR 351.213(d)(3).

Assessment

Commerce will instruct CBP to assess antidumping duties on all appropriate entries. Antidumping duties shall be assessed at rates equal to the cash deposit rate of estimated antidumping duties required at the time of entry, or withdrawal from warehouse, for consumption, in accordance with 19 CFR 351.212(c)(1)(i). Commerce intends to issue assessment instructions to CBP no earlier than 35 days after the date of publication of this rescission notice in the Federal Register.

Notification Regarding Administrative Protective Order

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This notice is issued and published in accordance with sections 751(a)(1) and 777(i)(1) of the Tariff Act of 1930, as amended, and 19 CFR 351.213(d)(4).

Dated: January 17, 2024.
James Maeder,
Deputy Assistant Secretary for Antidumping and Countervailing Duty Operations.

[FR Doc. 2024-01148 Filed 1-22-24; 8:45 am]

BILLING CODE 3510-DS-P